DEPARTMENT OF HEALTH AND HUMAN SERVICES

National Institutes of Health

Eunice Kennedy Shriver National Institute of Child Health & Human Development; Amended Notice of Meeting

Notice is hereby given of a change in the meeting of the National Advisory Board on Medical Rehabilitation Research, December 01, 2025, 10:00 a.m. to December 02, 2025, 05:00 p.m., Eunice Kennedy Shriver National Institute of Child, 6710 B, Rockledge Drive, Bethesda, MD 20814 which was published in the Federal Register on June 04, 2025, 90 FR 24284.

This notice is being amended to change the meeting duration from two days to one day (December 1) and adjust the time from 10 a.m.-5 p.m. to 10 a.m.-4 p.m.

Dated: September 29, 2025.
Bruce A. George,
Program Analyst, Office of Federal Advisory Committee Policy.

[FR Doc. 2025-19154 Filed 9-30-25; 8:45 am]

BILLING CODE 4140-01-P